DEPARTMENT OF TRANSPORTATION

Federal Aviation Administration

14 CFR Part 71

[Docket No. FAA-2017-1034; Airspace Docket No. 17-ANM-23]

RIN 2120-AA66

Amendment of Class D and Class E Airspace; Aurora, OR

AGENCY: Federal Aviation Administration (FAA), DOT.

ACTION: Final rule.

SUMMARY: This action modifies the Class D airspace, Class E surface area airspace, and Class E airspace extending upward from 700 feet above the surface, at Aurora State Airport, Aurora, OR. Additionally, an editorial change removes the city associated with the airport name in the airspace designations, and replaces the outdated term Airport/Facility Directory with Chart Supplement in Class D airspace. These changes are necessary to accommodate airspace redesign for the safety and management of instrument flight rules (IFR) operations within the National Airspace System.

DATES: Effective 0901 UTC, January 3, 2019. The Director of the Federal Register approves this incorporation by reference action under Title 1, Code of Federal Regulations, part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of this material at NARA, call (202) 741-6030, or go to https://www.archives.gov/federal-register/cfr/ibr-locations.html.

FAA Order 7400.11, Airspace Designations and Reporting Points, is published yearly and effective on September 15.

FOR FURTHER INFORMATION CONTACT: Richard Farnsworth, Federal Aviation Administration, Operations Support Group, Western Service Center, 2200 S 216th Street, Des Moines, WA 98198-6547; telephone (206) 231-2244.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D airspace, Class E surface area airspace, and Class E airspace extending upward from 700 feet above the surface, at Aurora State Airport, Aurora, OR, to support IFR operations at this airport.

History

The FAA published a notice of proposed rulemaking in the Federal Register (83 FR 7428; February 21, 2018) for Docket No. FAA-2017-1034 to modify Class D airspace, Class E surface area airspace, and Class E airspace extending upward from 700 feet above the surface, at Aurora State Airport, Aurora, OR. Interested parties were invited to participate in this rulemaking effort by submitting written comments on the proposal to the FAA. Twenty-six comments were received, all in support of the changes.

Class E airspace designations are published in paragraph 6005 of FAA Order 7400.11C, dated August 13, 2018, and effective September 15, 2018, which is incorporated by reference in 14 CFR 71.1. The Class E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14, Code of Federal Regulations (14 CFR) part 71 modifies Class D airspace, Class E surface area airspace, and Class E airspace extending upward from 700 feet above the surface at Aurora State Airport, Aurora, OR.

Class D airspace is modified to a4-mile radius of the airport, and within 1.8 miles each side of the 007° bearing from the airport extending from the4-mile radius to 5.1 miles north of the airport (from a 4.2-mile radius of the airport from the 64° bearing from the airport clockwise to the 142° bearing, extending to a 5-mile radius from the 142° bearing clockwise to the 64° bearing from the airport). Two excluded area cutouts for Lenhardt Airpark and McGee Airport, respectively, (both nearby satellite general aviation airports) are modified by excluding that airspace below 1,500 feet MSL within the area bounded by lat. 45°11′51″ N, long. 122°45′45″ W; to lat. 45°12′50″ N, long. 122°44′34″ W; to the point where the 142° bearing from the airport intersects the 4-mile radius of the airport, thence clockwise along the airport 4-mile radius to the 174° bearing from the airport, thence to the point of beginning; and excluding that airspace below 1,500 feet MSL within the area bounded by lat. 45°15′37″ N, long. 122°51′14″ W; to the point where the 235° bearing from the airport intersects the 4-mile radius of the airport, thence clockwise along the airport 4-mile radius to the airport 281° bearing, thence to the point of beginning (from excluding that airspace below 1,200 feet beyond 3.3 miles from the airport from the 142° bearing clockwise to the 174° bearing, and that airspace below 1,200 feet beyond 3.3 miles from the airport from the 250° bearing clockwise to the 266° bearing from the airport). The modification of the excluded areas within the Class D provides additional airspace for visual flight rules operations at the satellite airports while maintaining the required airspace to support IFR operations at Aurora State Airport. Also, an editorial change is made to the legal description replacing Airport/Facility Directory with Chart Supplement.

Class E surface area airspace is modified to be coincident with the dimensions of the Class D airspace except no exclusion is provided in the vicinity of Lenhardt Airpark (“excluding that airspace below 1,500 feet MSL within the area bounded by lat. 45°11′51″ N, long. 122°45′45″ W; to lat. 45°12′50″ N, long. 122°44′34″ W; to the point where the 142° bearing from the airport intersects the 4-mile radius of the airport, thence clockwise along the airport 4-mile radius to the 174° bearing from the airport, thence to the point of beginning”). Class E surface area airspace is required within this Class D cutout to ensure Class E weather requirements exist from the surface and protect IFR arrival operations to Aurora State Airport.

Class E airspace extending upward from 700 feet is modified to within a 6.5-mile radius (from a 7-mile radius) from the airport 043° bearing clockwise to the airport 350° bearing and within a 9-mile radius (from a 6.5-mile radius) from the airport 350° bearing clockwise to the airport 043° bearing, and within 1.6 miles each side of a 007° bearing from the airport extending from the9-mile radius of the airport to 20.6 miles north of the airport (from within 1.6 miles either side of the 007° bearing from airport extending from the 7-mile radius to 20 miles northeast of the airport), and within 1.8 miles each side of a line extending from lat. 45°21′12″ N, long. 122°58′41″ W, to lat. 45°19′20″ N, long. 122°49′07″ W (from within 1.2 miles either side of the 306° bearing from airport extending from the 7-mile radius to 10.9 miles northwest of the airport).

The airport designations for the Class D and E airspace areas are amended by removing the name of the city associated with the airport to be in compliance with a change to FAA Order 7400.2L, Procedures for Handling Airspace Matters.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

ANM OR D Aurora, OR [Amended]

Aurora State Airport, OR

(Lat. 45°14′50″ N, long. 122°46′12″ W)

That airspace extending upward from the surface to and including 2,700 feet MSL within a 4-mile radius of Aurora State Airport and within 1.8 miles each side of the 007° bearing from the airport extending from the 4-mile radius to 5.1 miles north of the airport, excluding that airspace below 1,500 feet MSL within the area bounded by lat. 45°11′51″ N, long. 122°45′45″ W; to lat. 45°12′50″ N, long. 122°44′34″ W; to the point where the 142° bearing from the airport intersects the 4-mile radius of the airport, thence clockwise along the airport 4-mile radius to the 174° bearing from the airport, thence to the point of beginning, and excluding that airspace below 1,500 feet MSL within the area bounded by lat. 45°15′37″ N, long. 122°51′14″ W; to the point where the 235° bearing from the airport intersects the4-mile radius of the airport, thence clockwise along the airport 4-mile radius to the airport 281° bearing, thence to the point of beginning. This Class D airspace area is effective during the specific dates and times established in advance by a Notice to Airmen. The effective date and time will thereafter be continuously published in the Chart Supplement.

Paragraph 6002 Class E Airspace Designated as Surface Areas.

* * * * *

ANM OR E2 Aurora, OR [Amended]

Aurora State Airport, OR

(Lat. 45°14′50″ N, long. 122°46′12″ W)

That airspace extending upward from the surface within a 4-mile radius of Aurora State Airport and within 1.8 miles each side of the 007° bearing from the airport extending from the 4-mile radius to 5.1 miles north of the airport, excluding that airspace below 1,500 feet MSL within the area bounded by lat. 45°15′37″ N, long. 122°51′14″ W; to the point where the 235° bearing from the airport intersects the 4-mile radius of the airport, thence clockwise along the airport 4-mile radius to the airport 281° bearing, thence to the point of beginning.

Paragraph 6005 Class E Airspace Areas Extending Upward From 700 Feet or More Above the Surface of the Earth.

* * * * *

ANM OR E5 Aurora, OR [Amended]

Aurora State Airport, OR

(Lat. 45°14′50″ N, long. 122°46′12″ W)

That airspace extending upward from 700 feet above the surface within a 9-mile radius of the Aurora State Airport from a 350° bearing from the airport clockwise to a 043° bearing from the airport, and within a 6.5-mile radius of the airport from the airport 043° bearing clockwise to the airport 350° bearing, and within 1.6 miles each side of a 007° bearing from the airport extending from the 9-mile radius of the airport to 20.6 miles north of the airport, and within 1.8 miles each side of a line extending from lat. 45°21′12″ N, long. 122°58′41″ W; to lat. 45°19′20″ N, long. 122°49′07″ W.

Issued in Seattle, Washington, on October 11, 2018.
Shawn M. Kozica,
Manager, Operations Support Group, Western Service Center.

[FR Doc. 2018-23147 Filed 10-24-18; 8:45 am]

BILLING CODE 4910-13-P